DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Fort Bend County, Texas, and Incorporated Areas
Docket Nos.: FEMA-B-1100 and B-1221
Brazos River | At the confluence with Cow Creek | +51 | City of Missouri.
| At the Waller/Austin county boundary | +117 | City, City of Richmond, City of Rosenberg, City of Sugar Land, Fort Bend County L.I.D. #2, Fort Bend County L.I.D. #7, Pecan Grove M.U.D., Town of Thompsons, Unincorporated Areas of Fort Bend County, Village of Simonton, Weston Lakes.
Cane Island Branch | Just upstream of the confluence with Willow Fork Buffalo Bayou | +132 | City of Katy.
| Just upstream of I-10 | +133
Clear Creek | Just downstream of FM 2234 | +60 | City of Houston, City of Pearland, Unincorporated Areas of Fort Bend County.
| Just downstream of Rouen Road | +68
Keegans Bayou | Approximately 1,500 feet downstream of Hodges Bend Drive | +88 | West Keegans Bayou Improvement District.
| Approximately 988 feet upstream of Hodges Bend Drive | +88
Lower Oyster Creek | At the confluence with Flat Bank Creek | +61 | City of Arcola, City of Missouri City, Unincorporated Areas of Fort Bend County.
| Approximately 1,300 feet upstream of McKeever Road | +64
Old Oyster Creek (Backwater Effects from Lower Oyster Creek) | Approximately 2000 feet downstream of Ellison Road | +59 | City of Missouri City, Unincorporated Areas of Fort Bend County.
| Just downstream of Watts Plantation Road | +60
Oyster Creek | At the confluence with Flat Bottom Creek | +61 | Unincorporated Areas of Fort Bend County, City of Missouri City, City of Sugar Land, First Colony L.I.D., Fort Bend County L.I.D. #2, Fort Bend County Municipal Utility District No. 25, Fort Bend County M.U.D. #42, Pecan Grove M.U.D.
| At the confluence with Jones Creek | +85
Willow Fork Buffalo Bayou | At the Harris County boundary | +97 | City of Houston, City of Katy, Unincorporated Areas of Fort Bend County, Willow Fork Drainage District.
| At the Waller County boundary | +147
* National Geodetic Vertical Datum. + North American Vertical Datum. # Depth in feet above ground. ‸ Mean Sea Level, rounded to the nearest 0.1 meter.
ADDRESSES
City of Arcola
Maps are available for inspection at 13222 State Highway 6, Arcola, TX 77583.
City of Houston
Maps are available for inspection at 3300 Main Street, Houston, TX 77002.
City of Katy
Maps are available for inspection at 910 Avenue C, Katy, TX 77492.
City of Missouri City
Maps are available for inspection at 1522 Texas Parkway, Missouri City, TX 77459.
City of Pearland
Maps are available for inspection at 3519 Liberty Drive, Pearland, TX 77581.
City of Richmond
Maps are available for inspection at 402 Morton Street, Richmond, TX 77469.
City of Rosenberg
Maps are available for inspection at 2110 4th Street, Rosenberg, TX 77471.
City of Sugar Land
Maps are available for inspection at 10405 Corporate Drive, Sugar Land, TX 77478.
First Colony L.I.D.
Maps are available for inspection at 2077 South Gessner Road, Suite 225, Houston, TX 77063.
Fort Bend County L.I.D. #2
Maps are available for inspection at 2929 Briarpark Drive, Suite 600, Houston, TX 77042.
Fort Bend County L.I.D. #7
Maps are available for inspection at 2929 Briarpark Drive, Suite 600, Houston, TX 77042.
Fort Bend County Municipal Utility District No. 25
Maps are available for inspection at 8522 Katy Freeway, Suite 300, Houston, TX 77024.
Fort Bend County M.U.D. #42
Maps are available for inspection at 6335 Gulfton Street, Suite 200, Houston, TX 77081.
Pecan Grove M.U.D.
Maps are available for inspection at 6335 Gulfton Street, Suite 200, Houston, TX 77081.
Town of Thompsons
Maps are available for inspection at 520 Thompson Oil Field Road, Thompsons, TX 77481.
Unincorporated Areas of Fort Bend County
Maps are available for inspection at 1124 Blume Road, Rosenburg, TX 77471.
Village of Simonton
Maps are available for inspection at 1104 Blume Road, Rosenburg, TX 77471.
West Keegans Bayou Improvement District
Maps are available for inspection at 5757 Woodway Drive, Houston, TX 77057.
Weston Lakes
Maps are available for inspection at 32611 FM 1093, Fulshear, TX 77441.
Willow Fork Drainage District
Maps are available for inspection at 5757 Woodway Drive, Houston, TX 77057.

(Catalog of Federal Domestic Assistance No. 97.022, “Flood Insurance.”)

Date: December 18, 2013.
Roy E. Wright,
Deputy Associate Administrator for Mitigation, Department of Homeland Security, Federal Emergency Management Agency.

[FR Doc. 2014-01374 Filed 1-23-14; 8:45 am]

BILLING CODE 9110-12-P